DEPARTMENT OF THE INTERIOR

Bureau of Indian Affairs

[156A2100DD/AAKC001030/A0A501010.999900 253G]

Land Acquisitions; Mashpee Wampanoag Tribe

AGENCY: Bureau of Indian Affairs, Interior.

ACTION: Notice of final agency determination.

SUMMARY: The Assistant Secretary—Indian Affairs made a final determination to acquire approximately 321.35 acres of land, more or less, in Barnstable and Bristol Counties, Massachusetts, in trust for gaming and other purposes for the Mashpee Wampanoag Tribe on September 18, 2015.

FOR FURTHER INFORMATION CONTACT: Ms. Paula L. Hart, Director, Office of Indian Gaming, Bureau of Indian Affairs, MS-3657 MIB, 1849 C Street NW., Washington, DC 20240; Telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On September 18, 2015, the Assistant Secretary—Indian Affairs issued a decision to accept 321.35 acres, more or less, of land in trust for the Mashpee Wampanoag Tribe in the Town of Mashpee, Massachusetts (170 acres, more or less), and the City of Taunton, Massachusetts (151 acres, more or less), under the authority of Section 5 of the Indian Reorganization Act of 1934, 25 U.S.C. 465. The Assistant Secretary—Indian Affairs also determined that these lands meet the requirements of the Indian Gaming Regulatory Act's “initial reservation” exception, 25 U.S.C. 2719(b)(1)(B)(ii), to the general prohibition contained in 25 U.S.C. 2719(a), on gaming on lands acquired in trust after October 17, 1988.

Legal Description

The Assistant Secretary—Indian Affairs, on behalf of the Secretary of the Interior, will immediately acquire title in the name of the United States of America in trust for Mashpee Wampanoag Tribe. The 321.35 acres are located in Barnstable and Bristol Counties, Massachusetts, and are more particularly described as follows:

Town of Mashpee, Barnstable County, State of Massachusetts

Parcel 1—213 Sampsons Mill Road (Assessor's Parcel 63-10-0-R)

Description of land in the Commonwealth of Massachusetts, County of Barnstable, Town of Mashpee on the east side of Quippish Road, and the south side of Sampsons Mill Road more particularly shown as Lot 6 on a plan entitled “Plan of Land in Mashpee, Mass. Jill Slaymaker in Mashpee, Ma. Scale 1″ =100′, Date March 22, 1985” prepared by Edward E. Kelley Reg. Land Surveyor and recorded in Barnstable County Registry of Deeds, Plan Book 401 Page 97. Bounded and described as follows:

Beginning at a concrete bound at the intersection of Quippish Road and Linwood Street and the southwesterly corner of the parcel herein described;

Thence N 01°−28′−19″ W along the easterly sideline of Quippish Road a distance of 258.98 feet to a concrete bound;

Thence N 14°−02′−10″ W along the easterly sideline of Quippish Road on a distance of 209.57 feet to a concrete bound;

Thence N 20°−57′−57″ W along the easterly sideline of Quippish Road a distance of 266.53 feet to a point near a concrete bound disturbed at the land now or formerly of Willowbend Community Trust;

Thence N 68°−19′49″ E along land now or formerly of Willowbend Community Trust a distance of 335.86 feet to a concrete bound;

Thence N 18°−23′−09″ W along land now or formerly of Willowbend Community Trust a distance of 391.81 feet to a concrete bound at the easterly sideline of Quippish Road;

Thence N 18°−23′−09″ W along the easterly sideline of Quippish Road a distance of 355.84 feet to a mag nail set at the southerly sideline of Sampsons Mill Road;

Thence S 70°−51′−50″ E along the southerly sideline of Sampsons Mill Road a distance of 528.32 feet to a concrete bound at the point of curvature;

Thence easterly along the southerly sideline of Sampsons Mill Road a curve to the left having a radius of 191.36 feet, an arc distance of 132.25 feet, a chord bearing N 89°−20′−15″ E and a chord length of 129.63 feet to point of tangency;

Thence N 69°−32′−13″ E along the southerly sideline of Sampsons Mill Road a distance of 195.68 feet to a point of curvature;

Thence easterly along the southerly sideline of Sampsons Mill Road a curve to the right having a radius of 171.59 feet, an arc distance of 120.46 feet, a chord bearing N 89°−38′−54″ E and a chord length of 118.00 feet to point of tangency;

Thence S 70°−14′−27″ E along the southerly sideline of Sampsons Mill Road a distance of 114.00 feet to the medial line of the Santuit River;

Thence numerous courses along the medial line of Santuit River;

Thence S 26°−12′−29″ W along the medial line of the Santuit River a distance of 21.27 feet to a point;

Thence S 06°−37′−27″ E along the medial line of the Santuit River a distance of 98.31 feet to a point;

Thence S 49°−39′−30″ W along the medial line of the Santuit River a distance of 40.85 feet to a point;

Thence S 38°−48′−36″ W along the medial line of the Santuit River a distance of 43.45 feet to point;

Thence S 30°−48′−45″ E along the medial line of the Santuit River a distance of 27.64 feet to a point;

Thence S 53°−29′−40″ E along the medial line of the Santuit River a distance of 31.73 feet to a point;

Thence S 29°−39′−25″ E along the medial line of the Santuit River a distance of 73.97 feet to a point;

Thence S 05°−07′−08″ W along the medial line of the Santuit River a distance of 81.61 feet to a point;

Thence S 19°−19′−45″ W along the medial line of the Santuit River a distance of 55.78 feet to a point;

Thence S 14°−31′−54″ E along the medial line of the Santuit River a distance of 146.35 feet to a point;

Thence S 27°−27′−03″ E along the medial line of the Santuit River a distance of 94.14 feet to a point;

Thence S 51°−23′−03″ E along the medial line of the Santuit River a distance of 56.47 feet to a point;

Thence S 08°−58′−54″ E along the medial line of the Santuit River a distance of 48.95 feet to a point;

Thence S 01°−59′−19″ E along the medial line of the Santuit River a distance of 49.82 feet to a point;

Thence S 20°−26′−08″ E along the medial line of the Santuit River a distance of 34.79 feet to a point;

Thence S 07°−02′−20″ E along the medial line of the Santuit River a distance of 34.79 feet to a point;

Thence S 11°−59′−37″ W along the medial line of the Santuit River a distance of 65.43 feet to a point;

Thence S 56°−08′−09″ W along the medial line of the Santuit River a distance of 88.60 feet to a point;

Thence S 13°−17′−42″ W along the medial line of the Santuit River a distance of 102.68 feet to a point;

Thence S 49°−39′−30″ W along the medial line of the Santuit River a distance of 18.15 feet to a point;

Thence S 02°−26′−46″ E along the medial line of the Santuit River a distance of 51.81 feet to a point;

Thence S 30°−57′−53″ E along the medial line of the Santuit River a distance of 33.53 feet to a point at the land now or formerly of the Town of Mashpee Conservation Commission;

Thence S 75°−43′−36″ W along land now or formerly of the Town of Mashpee Conservation Commission a distance of 314.40 feet to a concrete bound;

Thence S 75°−43′−36″ W along land now or formerly of the Town of Mashpee Conservation Commission and along an undeveloped way know as Linwood Street, all being land of the Town of Mashpee Conservation Commission, a distance of 300.03 feet to a concrete bound at the sideline of Linwood Street;

Thence S 75°−43′−36″ W along the northerly sideline of Linwood Street a distance of 417.21 feet to a concrete bound at the easterly sideline of Quippish Road, being the Point of Beginning.

The above parcel contains 29.92 acres, more or less.

For Grantor's title see deed dated February 7, 2013 from Maushop L.L.C. and recorded in the Barnstable Registry of Deeds in Book 27116, Page 35.

Parcel 2—17 Mizzenmast (Assessor's Parcel 125-238-0-E)

Description of land in the Commonwealth of Massachusetts, County of Barnstable, Town of Mashpee, on the east side of Mizzenmast more particularly shown as shown as Lot 80 Land Court Plan 35464-b (Sheet 7) filed in Land Registration Office, Barnstable County Registry of Deeds with a Certificate of Title Number 165381 bounded and described as follows:

Beginning at a concrete bound at the southwesterly corner of the parcel herein described and the land now or formerly of new Seabury Properties, LLC;

Thence N 09°08′29″ E along land now or formerly of new Seabury Properties, LLC a distance of 57.00 feet to a bound at the land now or formerly of Paul;

Thence N 59°24′39″ E along land now or formerly of Paul a distance of 188.63 feet to a concrete bound at the easterly sideline of Mizzenmast;

Thence southerly along the easterly sideline of Mizzenmast a curve to the right, having a radius of 547.59 feet, an arc distance of 118.00 feet, with a chord bearing S 8°45′36″ E and a chord length of 117.77 feet to a concrete bound at the land now or formerly of Garber;

Thence S 79°16′28″ W along land now or formerly of Garber a distance of 192.74 feet to the Point of Beginning.

The above described parcel contains 15,727± s.f. or 0.3610 acres, more or less.

Parcel 3—56 Uncle Percy's Road (Assessor's Parcel 117-173-0-R)

Description of land in the Commonwealth of Massachusetts, County of Barnstable, Town of Mashpee, on the south side of Uncle Percy's Road more particularly shown as shown as Lot 15 (Block 10) Land Court Plan 11408-I filed in Land Registration Office, Barnstable County Registry of Deeds with a Certificate of Title Number 157612. Bounded and described as follows:

Beginning at a concrete bound along the southerly sideline of Uncle Percy's Road at the westerly corner of the parcel herein described and at the land now or formerly of Tucchio;

Thence N 45°15′00″ E along the southerly sideline of Uncle Percy's Road a distance 65.00 feet to a concrete bound at the land now or formerly of Mainberger, Trustee;

Thence S 44°45′00″ E along land now or formerly of Mainberger, Trustee a distance of 100.00 feet to a concrete bound at the land now or formerly of Romanski;

Thence S 45°15′00″ W along land now or formerly of Romanski and Brossi a distance of 65.00 feet to a point at the land now or formerly of Tucchio;

Thence N 44°45′00″ W along land now or formerly of Tucchio a distance of 100.00 feet to the southerly sideline of Uncle Percy's Road and the Point of Beginning.

The above described parcel contains 6,500 s.f. or 0.1492 acres, more or less.

Parcel 4—Great Neck Road South (Assessor's Parcel 99-38-0-R)

Description of land in the Commonwealth of Massachusetts, County of Barnstable, Town of Mashpee on the west side of Great Neck Road South more particularly shown on a plan entitled “Plan of Land in Mashpee, Mass. Prepared for Duck Pond Limited Partnership. Scale 1″=50′, dated February 13, 2007″ prepared by Holmes and McGrath, Inc. and recorded in Barnstable County Registry of Deeds, Plan Book 618 Page 13. Bounded and described as follows:

Beginning at a concrete bound at the northeasterly corner of the parcel herein described and at the land now or formerly of the Mashpee Wampanoag Tribal Council, Inc.;

Thence S 70°−00′−00″ E along the land now or formerly of the Mashpee Wampanoag Tribal Council, Inc. A distance of 180.00 feet to a point;

Thence S 24°−54′−00″ E along the land now or formerly of the Mashpee Wampanoag Tribal Council, Inc. A distance of 93.07 feet to a point;

Thence S 01°−00′−00″ W along the land now or formerly of the Mashpee Wampanoag Tribal Council, Inc. A distance of 75.00 feet to a concrete bound;

Thence S 13°−55′−00″ W along the land now or formerly of the Mashpee Wampanoag Tribal Council, Inc. A distance of 190.01 feet to a point at the land now or formerly of Mashpee Commons L P;

Thence N 84°−57′−25″ W along the land now or formerly of Mashpee Commons L P a distance of 282.36 feet to a concrete bound;

Thence N 84°−57′−25″ W along the land now or formerly of Mashpee Commons L P a distance of 500.11 feet to a concrete bound;

Thence N 84°−57′−25″ W along the land now or formerly of Mashpee Commons L P a distance of 244.03 feet to a point near a concrete bound at land now or formerly of the Mashpee Wampanoag Tribal Council, Inc.;

Thence N 14°−32′−19″ E along the land now or formerly of the Mashpee Wampanoag Tribal Council, Inc.; a distance of 395.00 feet to a concrete bound;

Thence S 84°−57′−43″ E along the land now or formerly of the Mashpee Wampanoag Tribal Council, Inc. a distance of 765.00 feet to a concrete bound being the Point of Beginning.

The above parcel contains 8.88 acres, more or less.

For Grantor's title see deed dated June 12, 2007 from Duck Pond Limited Partnership and recorded in the Barnstable Registry of Deeds in Book 22104, Page 110.

Parcel 5—483 Great Neck Road South (Assessor's Parcel 95-7-0-R)

Description of land in the Commonwealth of Massachusetts, County of Barnstable, Town of Mashpee on the west side of Great Neck Road South more particularly shown on a plan entitled “Plan of Land in Mashpee, Mass. Prepared for the Mashpee Wampanoag Indian Tribal Council, Inc. Scale 1″=100′, dated June 6/3/15″ prepared by Cape & Islands Engineering, Inc. To be recorded in Barnstable County Registry of Deeds; bounded and described as follows:

Beginning at a Mashpee road bound along the westerly sideline of Great Neck Road South;

Thence S 19°−26′−15″ W along the westerly sideline of Great Neck Road South a distance of 220.76 feet to a point of curvature near a disturbed concrete bound;

Thence southerly along the westerly sideline of Great Neck Road South a curve to the left having a radius of 4055.79 feet, an arc distance of 249.01 feet, a chord bearing S 17°−40′−43″ W and a chord length of 248.97 feet to a point at the land now or formerly of Mashpee Commons L P;

Thence N 84°−57′−25″ W along land now or formerly Mashpee Commons L P a distance of 265.00 feet to a point at land now or formerly of the Mashpee Wampanoag Tribal Council;

Thence N 13°−55′−00″ E along land now or formerly of the Mashpee Wampanoag Tribal Council, Inc. a distance of 190.01 feet to a concrete bound;

Thence N 01°−00′−00″ E along land now or formerly of the Mashpee Wampanoag Tribal Council, Inc. a distance of 75.00 feet to a point;

Thence N 24°−54′−00″ W along land now or formerly of the Mashpee Wampanoag Tribal Council, Inc. a distance of 93.07 feet to a point;

Thence N 70°−00′−00″ W along land now or formerly of the Mashpee Wampanoag Tribal Council, Inc. a distance of 180.00 feet to a concrete bound;

Thence N 84°−57′−43″ W along land now or formerly of the Mashpee Wampanoag Tribal Council, Inc. a distance of 765.00 feet to a concrete bound;

Thence S 14°−32′−19″ W along land now or formerly of the Mashpee Wampanoag Tribal Council, Inc. a distance of 395.00 feet to a point near a concrete bound at the land now or formerly of Mashpee Commons L P;

Thence N 84°−57′−25″ W along land now or formerly of the Mashpee Commons L P. a distance of 256.07 feet to a broken concrete bound;

Thence N 84°−57′−25″ W along land now or formerly of the Mashpee Commons L P. a distance of 499.97 feet to a concrete bound;

Thence N 84°−57′−25″ W along land now or formerly of the Mashpee Commons L P. a distance of 500.00 feet to a concrete bound at the northerly sideline of Holland Mill Road;

Thence N 6°−32′−16″ E along Holland Mill Road so called a distance of 8.04 feet to a point;

Thence N 58°−32′−13″ W along the northerly sideline of Holland Mill Road a distance of 342.16 feet to a concrete bound;

Thence N 75°−30′−32″ W along the northerly sideline of Holland Mill Road a distance of 95.19 feet to a concrete bound;

Thence N 83°−41′−49″ W along the northerly sideline of Holland Mill Road a distance of 90.76 feet to a concrete bound online and thence continuing 12.90 feet to a point at the easterly sideline of Great Hay Road;

Thence N 10°−25′−26″ E along the easterly sideline of Great Hay Road a distance of 96.00 feet to a point;

Thence N 12°−38′−07″ E along the easterly sideline of Great Hay Road a distance of 149.30 feet to a point;

Thence N 10°−23′−37″ E along the easterly sideline of Great Hay Road a distance of 98.12 feet to a point of curvature;

Thence northerly along the easterly sideline of Great Hay Road a curve to the left having a radius of 412.75 feet, an arc distance of 98.07 feet, a chord bearing N 3°−53′−22″ E and a chord length of 97.84 feet to a point of tangency;

Thence N 2°−55′−03″ W along the easterly sideline of Great Hay Road a distance of 125.15 feet to a point;

Thence N 0°−35′−42″ E along the easterly sideline of Great Hay Road a distance of 49.42 feet to a point of curvature;

Thence northerly along the easterly sideline of Great Hay Road a curve to the left having a radius of 404.20 feet, an arc distance of 208.01 feet, a chord bearing N 14°−08′−53″ W and a chord length of 205.72 feet to a point of tangency;

Thence N 28°−53′−28″ W along the easterly sideline of Great Hay Road a distance of 49.10 feet to a point at the land now or formerly (n/f) of the Town of Mashpee Conservation Commission;

Thence S 82°−18′−33″ E along land n/f of the Town of Mashpee Conservation Commission a distance of 10.11 feet to a broken concrete bound;

Thence S 82°−18′−33″ E along land n/f of the Town of Mashpee Conservation Commission a distance of 1216.01 feet to a broken concrete bound;

Thence S 82°−18′−33″ E along land n/f of the Town of Mashpee Conservation Commission a distance of 352.06 feet to a concrete bound;

Thence S 82°−18′−33″ E along land n/f of the Town of Mashpee Conservation Commission a distance of 125.83 feet to a concrete bound;

Thence S 82°−18′−33″ E along land n/f of the Town of Mashpee Conservation Commission a distance of 484.05 feet to a concrete bound;

Thence S 82°−18′−33″ E along land n/f of the Town of Mashpee Conservation Commission a distance of 405.76 feet to a concrete bound;

Thence S 82°−18′−33″ E along land n/f of the Town of Mashpee Conservation Commission a distance of 500.19 feet to a concrete bound;

Thence S 82°−18′−33″ E along land now or formerly of the Town of Mashpee Conservation Commission a distance of 159.99 feet to a point near a concrete bound at the westerly sideline of Great Neck Road South;

Thence S 04°−15′−00″ E along the westerly sideline of Great Neck Road South a distance of 43.97 feet to a point of curvature;

Thence southerly along the westerly sideline of Great Neck Road South a curve to the right having a radius of 914.51 feet, an arc distance of 378.08 feet, a chord bearing S 7°−35′−38″ W and a chord length of 375.39 feet to a Mashpee Road bound being the Point of Beginning.

The above parcel contains 57.94 acres, more or less.

Parcel 6—414 Main Street (Assessor's Parcel 35-30-0-R)

Description of land in the Commonwealth of Massachusetts, County of Barnstable, Town of Mashpee on the south side of Main Street more particularly shown as shown as parcel 35 30 0 on the Town of Mashpee Assessors Maps, and is shown as parcel labeled Town of Mashpee on a plan entitled “Plan of Land in Mashpee, Mass. As surveyed for Bonnie MacCarthy, Scale 1 in. = 40 ft., May 11, 1973, Nickerson & Berger, Inc. Engineers,” recorded with the Barnstable County Registry of Deeds at Plan Book 273, Page 2. Bounded and described as follows:

Beginning on the southerly sideline of Main Street at a concrete bound at the northwesterly corner of the parcel herein described and at the land now or formerly of the Commonwealth of Massachusetts;

Thence S 74°26′15″ E by said Main Street a distance of 230.95 feet to a point on the westerly bank of the Mashpee River;

Thence S 11°57′41″ W along the westerly bank of the Mashpee River a distance of 20.35 feet to a point;

Thence S 11°35′07″ W along the westerly bank of the Mashpee River a distance of 18.16 feet to a point;

Thence N 79°14′07″ W along the westerly bank of the Mashpee River a distance of 3.28 feet to a point;

Thence S 06°00′37″ W along the westerly bank of the Mashpee River a distance of 34.71 feet to a point;

Thence S 04°19′12″ W along the westerly bank of the Mashpee River a distance of 39.78 feet to a point;

Thence S 56°36′27″ W along the westerly bank of the Mashpee River a distance of 3.97 feet to a point;

Thence S 16°22′26″ E along the westerly bank of the Mashpee River a distance of 19.51 feet to a point;

Thence S 01°45′28″ E along the westerly bank of the Mashpee River a distance of 10.40 feet to a point at the land now or formerly of the Commonwealth of Massachusetts;

Thence N 65°57′45″ W along land now or formerly of the Commonwealth of Massachusetts a distance of 40.08 feet to a concrete bound;

Thence N 65°57′45″ W along land now or formerly of the Commonwealth of Massachusetts a distance of 234.92 feet to a concrete bound;

Thence N 25°−22′−55″ E along land now or formerly of the Commonwealth of Massachusetts a distance of 102.38 feet to the southerly sideline of Main Street and the Point of Beginning.

The above described parcel contains 29,708 ± s.f. or 0.6820 acres, more or less.

Parcel 7—41 Hollow Road (Assessor's Parcel 45-73-A-R)

That certain parcel of land together with the buildings thereon located on the southerly side of Hollow Road in Mashpee, Barnstable County, Massachusetts, now known and numbered as 41 Hollow Road, described as follows:

Beginning at a Point (P.O.B. “A”) at the southerly side of Hollow Road and the easterly side of Goodspeed's Meeting House Road. Said Point (P.O.B. “A”) lies N 54-53-10 E a distance of 39.89 feet from a concrete bound with a drill hole found, thence:

By the southerly line of Hollow Road S 54-11-06 E a distance of 160.52 feet to a point, thence;

By the southerly line of Hollow Road S 58-08-17 E a distance of 267.94 feet to a concrete bound with a drill hole set at land of Mashpee Water District, thence;

By land of Mashpee Water District along a non-tangent curve to the left, having a radius of 400.00 feet, an arc length of 1758.49 feet, and whose long chord bears S 78-30-33 E a distance of 647.68 feet to a concrete bound with a drill hole set in the southerly line of hollow Road, thence;

By the southerly line of Hollow Road along a curve to the right, having a radius of 230.06 feet, an arc length of 207.20 feet, and whose long chord bears S 67-36-33 E a distance of 200.27 feet to a point, thence;

By the southerly line of Hollow Road S 41-48-27 E a distance of 14.34 feet to a concrete bound with a drill hole set at land of Town of Mashpee Conservation Commission, thence;

By land of Town of Mashpee Conservation Commission S 18-18-01 W a distance of 665.60 feet to a concrete bound with a drill hole set at land of Mashpee Old Indian Meeting House Authority, Inc., thence;

By land of Mashpee Old Indian Meeting House Authority, Inc. S 72-07-25 W a distance of 411.20 feet to a point, thence;

By land of Mashpee Old Indian Meeting House Authority, Inc. N 73-07-23 W a distance of 301.99 feet to a point, thence;

By land of Mashpee Old Indian Meeting House Authority, Inc. N 18-56-33 W a distance of 614.52 feet to a point, thence;

By land of Mashpee Old Indian Meeting House Authority, Inc. N 68-19-57 W a distance of 287.36 feet to a point in the easterly line of Goodspeed's Meetinghouse Road, thence;

By the easterly line of Goodspeed's Meetinghouse Road N 17-54-20 E a distance of 217.36 feet to a point, thence;

By the easterly line of Goodspeed's Meetinghouse Road N 24-06-17 E a distance of 249.44 feet to the Point of Beginning.

Parcel 73A contains 10.81 acres, more or less.

Parcel 8—410 Meetinghouse Road (Assessor's Parcel 61-58a-0-R)

Description of land in the Commonwealth of Massachusetts, County of Barnstable, Town of Mashpee on the east side of Meetinghouse Road more particularly shown as Parcel 58A on a plan entitled “Plan of Land Prepared for Old Indian Meeting House Authority, Inc. Scale 1″=10′, date March 29, 2007” prepared by Holmes and McGrath Inc. and recorded in Barnstable County Registry of Deeds, Plan Book 625 page 8. Bounded and described as follows:

Beginning at a concrete bound with nail located along the easterly sideline of Meetinghouse Road at the northeasterly corner of the parcel herein described and at the land now or formerly of the Mashpee Wampanoag Tribal Council Inc.;

Thence S 5°−22′−15″ W along the easterly sideline of Meetinghouse Road a distance of 10.17 feet to a concrete bound with disk located on the easterly sideline of Meeting House Road;

Thence easterly along the sideline of Meetinghouse Road on a curve to the left having a radius of 996.84 feet, an arc distance of 59.85 feet, a chord bearing S 3°−39′−02″ W and a chord length of 59.84 feet to a point located at the southwest corner of the parcel herein described;

Thence S 73°−12′−45″ E along land now or formerly of Mashpee Wampanoag Tribal Council Inc. A distance of 86.92 feet to a point;

Thence N 13°−42′−06″ E along land now or formerly of Mashpee Wampanoag Tribal Council Inc. A distance of 70.00 feet to a point marked by a concrete bound with a nail;

Thence N 74°−10′−05″ W along land now or formerly of Mashpee Wampanoag Tribal Council Inc. A distance of 98.78 feet to a point marked by a concrete bound with a nail at the easterly sideline of Meetinghouse Road, being the Point of Beginning;

The above parcel contains 6,447± s.f. or 0.1480 acres, more or less.

For grantor's title see deed dated April 28, 2008 from the Town of Mashpee, acting by and through its Board of Selectmen, and recorded in the Barnstable Registry of Deeds in Book 22867, Page 31.

Parcel 9—414 Meetinghouse Road (Assessor's Parcel 68-13a-0-E)

Description of land in the Commonwealth of Massachusetts, County of Barnstable, Town of Mashpee on the west side of Falmouth Road, and the east side of Meetinghouse Road more particularly shown as Parcel 13B on a plan entitled “Plan of Land Prepared For Mashpee Wampanoag Tribe in Mashpee, MA. Scale 1″=80′, date May 16, 2008” prepared by Holmes and McGrath Inc. and recorded in Barnstable County Registry of Deeds, Plan Book 626 Page 4. Bounded and described as follows:

Beginning near a concrete bound along the westerly sideline of Falmouth Road at the southeasterly corner of the parcel herein described and at the land now or formerly of the Town of Mashpee;

Thence N 64°−23′−33″ W along land now or formerly of the Town of Mashpee a distance of 375.00 feet to a concrete bound on the easterly sideline of Meeting House Road;

Thence easterly along the sideline of Meetinghouse Road on a curve to the right having a radius of 996.84 feet, an arc distance of 158.50 feet, a chord bearing N 2°−37′−29″ W and a chord length of 158.33 feet to a point;

Thence S 73°−12′−45″ E along land now or formerly of Mashpee Wampanoag Tribal Council Inc. A distance of 86.92 feet to a point;

Thence N 13°−42′−06″ E along land now or formerly of Mashpee Wampanoag Tribal Council Inc. A distance of 70.00 feet to a point marked by a concrete bound with a nail;

Thence N 74°−10′−05″ W along land now or formerly of Mashpee Wampanoag Tribal Council Inc. a distance of 98.78 feet to a point marked by a concrete bound with a nail at the easterly sideline of Meetinghouse Road,

Thence N 05°−22′−15″ E along the easterly sideline of Meetinghouse Road a distance of 186.63 feet to the a point of curvature;

Thence along the easterly sideline of Meetinghouse Road a curve to the left having a radius of 1050.00 feet, an arc distance of 233.86 feet, a chord bearing N 1°−00′−35″ W and a chord length of 233.38 feet to a concrete bound at the land now or formerly of the Town of Mashpee;

Thence N 73°−02′−52″ E along land of now or formerly Town of Mashpee a distance of 720.70 feet to a point marked by a concrete bound at the land now or formerly of Nancy D. Ellison and at the land of now or formerly of Scott Greenwood;

Thence S 11°−40′−13″ E along lands of now or formerly of Greenwood, of Ainsworth and of Draggoo a distance of 381.13 feet to a rod with cap at the centerline of the way and at the land now or formerly Michael G. Miller;

Thence S 60°−17′−07″ W along land now or formerly of Miller a distance 44.94 feet to a rod with cap;

Thence S 50°−37′−58″ W along land now or formerly of Miller a distance of 44.45 feet to a rod with cap;

Thence S 43°−49′−11″ W along land now or formerly of Miller a distance of 56.00 feet to a rod with cap;

Thence S 41°−13′−45″ W along land now or formerly of Miller a distance of 44.85 feet to a rod with cap;

Thence S 38°−24′−16″ W along land now or formerly of Miller a distance of 56.58 feet to a rod with cap;

Thence S 23°−27′−46″ W along land now or formerly of Miller a distance of 113.79 feet to a rod with cap at the westerly sideline of Falmouth Road;

Thence westerly along the sideline of Falmouth Road a curve to the left, radius of 2030.00 feet, an arc distance of 329.65 feet, a chord bearing S 31°−18′−19″ W and a chord length of 329.29 feet to a concrete bound at a point of tangency;

Thence S 26°−39′−12″ W along the westerly sideline of Falmouth Road a distance of 102.33 feet to the Point of Beginning.

The above parcel contains 501,486± s.f. or 11.5125 acres, more or less.

For Grantor's title see deed dated May 19, 2008 from the Town of Mashpee, acting by and through its Board of Selectmen, and recorded in the Barnstable Registry of Deeds in Book 23010, Page 37.

Parcel 10—431 Main Street (Assessor's Parcel 27-42-0-R)

Description of the land in the Commonwealth of Massachusetts, County of Barnstable, Town of Mashpee, on the northerly side of Main Street more particularly shown as parcel 27 42 0 on the Town of Mashpee Assessors Maps, bounded and described as follows:

Beginning at a broken concrete bound on the northerly sideline of Main Street at the southwesterly corner of the parcel herein described and at the land now or formerly of Mauro;

Thence N 20°−15′−55″ E along land now or formerly of Mauro & Aselbekian a distance of 150.00 feet to a rod with a cap at the land now or formerly of Mashpee Shores Realty Trust;

Thence N 20°−15′−55″ E along land now or formerly of Mashpee Shores Realty Trust a distance of 207.89 feet to a point at the land now or formerly of Wolf;

Thence N 20°−15′−55″ E along land now or formerly of Wolf a distance of 70.00 feet to a concrete bound at the land now or formerly of Bortolotti;

Thence S 76°−03′−10″ E along land now or formerly of Bortolotti a distance of 264.65 feet to a concrete bound at the land now or formerly of Peters;

Thence S 29°−16′−14″ W along land of now or formerly of Peters a distance of 477.51 feet to a concrete bound at the northerly sideline of Main Street;

Thence westerly along the northerly sideline of Main Street, on a curve to the right having a radius of 594.62 feet, an arc distance of 189.67 feet with a chord bearing N 65°−17′−58″ W and a chord length of 188.87 feet, to a broken concrete bound being the Point of Beginning.

Above described parcel contains 102,177 s.f. or 2.3456 acres, more or less.

For Grantor's title see deed dated April 28, 2008 from the Town of Mashpee, acting by and through its Board of Selectmen, and recorded in the Barnstable Registry of Deeds in Book 22867, Page 26.

Parcel 11—184 Meetinghouse Road (Assessor's Parcel 45-75-0-R)

That certain parcel of land together with the buildings thereon located on the easterly side of Meetinghouse Road in Mashpee, Barnstable County, Massachusetts, now known and numbered as #184 Meetinghouse Road, described as follows:

Beginning at a point (P.O.B. “B”) at the easterly side of Goodspeed's Meetinghouse Road and the easterly side of Meetinghouse Road. Said point (P.O.B. “B”) lies S 06-34-23 E a distance of 64.36 feet from a concrete bound with a drill hole found, thence:

by the easterly line of Goodspeed's Meetinghouse Road N 7-50-42 E a distance of 157.70 feet to a point, thence;

by the easterly line of Goodspeed's Meetinghouse Road N 22-53-12 E a distance of 196.84 feet to a point, thence;

by the easterly line of Goodspeed's Meetinghouse Road N 29-49-31 E a distance of 257.97 feet to a point, thence;

by the easterly line of Goodspeed's Meetinghouse Road N 17-54-20 E a distance of 11.49 feet to a point at land of Mashpee Wampanoag Indian Tribal Council, Inc., thence;

by land of Mashpee Wampanoag Indian Tribal Council, Inc. S 68-19-57 E a distance of 287.36 feet to a point, thence;

by land of Mashpee Wampanoag Indian Tribal Council, Inc. S 18-56-33 E a distance of 614.52 feet to a point, thence;

by land of Mashpee Wampanoag Indian Tribal Council, Inc. S 73-07-23 E a distance of 301.99 feet to a point, thence;

by land of Mashpee Wampanoag Indian Tribal Council, Inc. N 72-07-25 E a distance of 411.20 feet to a concrete bound with a drill hole set at land of Town of Mashpee Conservation Commission, thence;

by land of Town of Mashpee Conservation Commission N 53-00-36 E a distance of 567.12 feet to a concrete bound with a drill hole set in the westerly line of Noisy Hole Road, thence;

by westerly line of Noisy Hole Road along a non-tangent curve to the RIGHT, having a radius of 1095.10 feet, an arc length of 145.55 feet, and whose long chord bears S 30-06-07 E a distance of 145.44 feet to a point, thence;

by westerly line of Noisy Hole Road along a curve to the LEFT, having a radius of 2636.04 feet, an arc length of 435.63 feet, and whose long chord bears S 31-01-44 E a distance of 435.13 feet to a point, thence;

by westerly line of Noisy Hole Road along a curve to the RIGHT, having a radius of 2823.63 feet, an arc length of 197.19 feet, and whose long chord bears S 33-45-45 E a distance of 197.15 feet to a point, thence;

by westerly line of Noisy Hole Road S 31-45-43 E a distance of 145.38 feet to a concrete bound with a drill hole set at land of Town of Mashpee Conservation Commission, thence;

by land of Town of Mashpee Conservation Commission S 69-37-19 W a distance of 2045.48 feet to a concrete bound with a drill hole set, thence;

by land of Town of Mashpee Conservation Commission N 55-19-03 W a distance of 34.35 feet to a concrete bound with a drill hole set in the easterly line of Meetinghouse Road, thence;

by the easterly line of Meetinghouse Road along a non-tangent curve to the LEFT, having a radius of 1075.46 feet, an arc length of 342.37 feet, and whose long chord bears N 10-09-22 W a distance of 340.93 feet to a concrete bound with a drill hole found, thence;

by the easterly line of Meetinghouse Road N 19-16-34 W a distance of 930.78 feet to the Point of Beginning.

Parcel 75 contains 46.83 acres, more or less.

City of Taunton, Bristol County, State of Massachusetts

Tract 1—TDC—Lot 9

Description of land in the Commonwealth of Massachusetts, County of Bristol, City of Taunton, on the west side of O'Connell Way off of Stevens Street owned by the Taunton Development Corporation and shown as Assessor's Parcel 49 on Assessor's Map 118 and as Lot 9 on a plan by Field Engineering Co., Inc. entitled “Definitive Subdivision Plan of Land, Liberty and Union Industrial Park—Phase II” and revised dated 3/08/2006, recorded in Plan Book 446, Pages 34-36, bounded and described as follows:

Beginning on the westerly sideline of O'Connell Way, at the most southeasterly corner of the lot to be described; said point being N 13°10′38″ W and 321.23 feet from a point of tangency in the westerly side line of O'Connell Way;

THENCE S 76°49′22″ W along land now or formerly of Two Stevens LLC a distance of 225.11 feet to a point;

THENCE N 20°56′02″ W along land now or formerly of Two Stevens LLC a distance of 547.76 feet to a point at Lot 14 and land now or formerly of Taunton Development Corporation (TDC);

THENCE N 87°34′23″ E along land now or formerly of TDC a distance of 186.89 feet to a point on a curve on the westerly side line of O'Connell Way;

THENCE southerly along the westerly sideline of O'Connell Way on a curve to the left having a radius of 230.00 feet, an arc distance of 92.90 feet, a chord bearing S 30°45′02″ E and a chord length of 92.27 feet to a point of tangency;

THENCE S 42°19′18″ E along the westerly sideline of O'Connell Way a distance of 135.62 feet to a point of curvature;

THENCE southerly along the westerly sideline of O'Connell Way on a curve to the right having a radius of 170.00 feet, an arc distance of 86.47 feet, a chord bearing S 27°44′58″ E and a chord length of 85.54 feet to a point of tangency;

THENCE S 13°10′38″ E along the westerly side line of O'Connell Way a distance of 218.68 feet to the Point of Beginning.

The above described lot contains 2.726 acres, more or less.

Tract 1—TDC—Lot 13

Description of land in the Commonwealth of Massachusetts, County of Bristol, City of Taunton, on the west side of O'Connell Way off of Stevens Street owned by the Taunton Development Corporation and shown as Assessor's Parcel 27 on Assessor's Map 108 and as Lot 13 on a plan by Field Engineering Co., Inc. entitled “Definitive Subdivision Plan of Land, Liberty and Union Industrial Park—Phase II” and revised dated 3/08/2006, recorded in Plan Book 458, Page 21, bounded and described as follows: (For the purposes of these drawings, the portion of the property boundary defined by the centerline of the Cotley River has been approximated by line segments with bearings and distances).

Beginning on the westerly sideline of O'Connell Way, at the southerly corner of the lot to be described and point being the easterly corner of Lot 14 owned by Taunton Development Corporation (TDC);

THENCE N 69°59′17″ W along land now or formerly of TDC (Lot 14) a distance of 749.99 feet to a point;

THENCE S 19°57′56″ W along land now or formerly of TDC (Lot 14) a distance of 301.44 feet to a point and at land now or formerly of Two Stevens LLC;

THENCE N 69°49′06″ W along land now or formerly of Two Stevens LLC a distance of 200.62 feet to a point also being the end point of a tie line;

THENCE continuing in the same N 69°49′06″ W direction along land now or formerly of Two Stevens LLC a distance of 30.00 feet to the approximate centerline of the Cotley River;

THENCE S 10°39′46″ W along the approximate centerline of Cotley River a distance of 110.86 feet;

THENCE S 05°31′51″ E along the approximate centerline of Cotley River a distance of 43.77 feet;

THENCE S 54°00′16″ E along the approximate centerline of Cotley River a distance of 31.07 feet;

THENCE S 58°48′35″ E along the approximate centerline of Cotley River a distance of 35.99 feet;

THENCE S 22°35′20″ E along the approximate centerline of Cotley River a distance of 27.33 feet;

THENCE S 15°02′05″ E along the approximate centerline of Cotley River a distance of 115.27 feet;

THENCE S 07°35′17″ W along the approximate centerline of Cotley River a distance of 30.90 feet;

THENCE S 36°31′36″ W along the approximate centerline of Cotley River a distance of 36.78 feet;

THENCE S 22°05′23″ W along the approximate centerline of Cotley River a distance of 37.53 feet;

THENCE S 00°51′38″ E along the approximate centerline of Cotley River a distance of 102.63 feet;

THENCE S 10°19′41″ E along the approximate centerline of Cotley River a distance of 132.84 feet to a point at land now or formerly of Douglas Porter Trustee;

THENCE S 79°40′32″ W along land now or formerly of Douglas Porter Trustee a distance of 21.00 feet to a point also being the end point of a tie line;

THENCE continuing in the same S 79°40′32″ W direction along land now or formerly of Douglas Porter Trustee a distance of 190.04 feet to a point on the easterly sideline of Massachusetts State Highway Route 24, Layout #3719;

THENCE N 01°00′57″ E along said easterly sideline of Route 24 a distance of 438.59 feet to a Massachusetts Highway bound;

THENCE N 45°35′25″ W along said easterly sideline of Route 24 a distance of 463.25 feet to a Massachusetts Highway bound;

THENCE N 11°44′56″ E along said easterly sideline of Route 24 a distance of 862.24 feet to the southerly sideline of a railroad right of way owned now or formerly by the Commonwealth of Massachusetts;

THENCE N 59°53′38″ E along the southerly sideline of the railroad right of way a distance of 239.15 feet to a point;

THENCE S 68°51′04″ E along land now or formerly of James L. Read, Trustee a distance of 235.00 feet to a point at the land now or formerly of PR-Crossroads Commerce Center LLC;

THENCE S 24°15′25″ E along land now or formerly of PR-Crossroads Commerce Center LLC a distance of 500.20 feet to a point;

THENCE S 62°44′24″ E along land now or formerly of PR-Crossroads Commerce Center LLC a distance of 203.55 feet to a point;

THENCE N 78°08′37″ E along land now or formerly of PR-Crossroads Commerce Center LLC a distance of 227.00 feet to a point;

THENCE S 14°16′09″ E along land now or formerly of PR-Crossroads Commerce Center LLC a distance of 77.84 feet to a point on the cul-de-sac sideline of O'Connell Way;

THENCE westerly and southerly along the sideline of O'Connell Way on a curve to the left having a radius 75.00 feet, an arc distance of 190.17 feet, a chord bearing S 21°30′01″ E and a chord length of 143.17 feet to a point of reverse curvature;

THENCE easterly and southerly along the sideline of O'Connell Way on a curve to the right having a radius of 40.00 feet, an arc distance of 49.33 feet, a chord bearing S 58°48′43″ E and a chord length of 46.26 feet to a point of reverse curvature;

THENCE southerly along the westerly sideline of O'Connell Way on a curve to the left having a radius of 330.00 feet, an arc distance of 93.55 feet, a chord bearing S 31°36′18″ E and a chord length of 93.23 feet to a point of tangency;

THENCE S 39°43′33″ E along the westerly sideline of O'Connell Way a distance of 100.06 feet to a point of curvature;

THENCE southerly along the westerly sideline of O'Connell Way on a curve to the right having a radius of 270.00 feet, an arc distance of 125.40 feet, a chord bearing S 26°25′15″ E and a chord length of 124.27 feet to the Point of Beginning.

The above described lot contains 22.238 acres, more or less.

Tract 1—TDC—Lot 14

Description of land in the Commonwealth of Massachusetts, County of Bristol, City of Taunton, on the west side of O'Connell Way off of Stevens Street owned by the Taunton Development Corporation and shown as Assessor's Parcel 26 on Assessor's Map 108 and as Lot 14 on a plan by Field Engineering Co., Inc. entitled “Definitive Subdivision Plan of Land, Liberty and Union Industrial Park—Phase II” and revised dated 3/08/2006, recorded in Plan Book 446, Pages 34-36, bounded and described as follows:

Beginning on the westerly sideline of O'Connell Way, at the most southeasterly corner of the lot to be described and point being the northeasterly corner of Lot 9 owned by Taunton Development Corporation (TDC);

THENCE S 87°34′23″ W along land now or formerly of TDC (Lot 9), a distance of 186.89 feet to a point at land now or formerly of Two Stevens LLC;

THENCE N 70°07′42″ W along land now or formerly of Two Stevens LLC a distance of 636.23 feet to a point;

THENCE N 69°49′06″ W along land now or formerly of Two Stevens LLC a distance of 46.27 feet to a point at land now or formerly of TDC (Lot 13);

THENCE N 19°57′56″ E along land now or formerly of TDC (Lot 13) a distance of 301.44 feet to a point;

THENCE S 69°59′17″ E along land now or formerly of TDC (Lot 13) a distance of 749.99 feet to a point on the westerly sideline of O'Connell Way;

THENCE southerly along the westerly sideline of O'Connell Way on a curve to the right having a radius of 270.00 feet, an arc distance of 59.38 feet, a chord bearing S 06°48′53″ E and a chord length of 59.27 feet to a point of tangency;

THENCE S 00°30′50″ E along the westerly sideline of O'Connell Way a distance of 118.63 feet to a point of curvature;

THENCE southerly along the westerly sideline of O'Connell Way on a curve to the left having a radius of 230.00 feet, an arc distance of 74.93 feet, a chord bearing S 09°50′48″ E and a chord length of 74.60 feet to the Point of Beginning.

The above described lot contains 5.473 acres, more or less.

Tract 1—TDC—North side Railroad 45 acres

Description of land in the Commonwealth of Massachusetts, County of Bristol, City of Taunton, on the south side of Middleboro Avenue and west side of Stevens Street owned by the Taunton Development Corporation and shown as Assessor's Parcel 156 on Assessor's Map 94 and as shown on a plan by Tibbetts Engineering Corp. entitled “Plan of Land”, Prepared for Taunton Development Corporation (TDC) dated 4/25/2002, recorded in Plan Book 406, Pages 66-68, bounded and described as follows: (For the purposes of these drawings, the portion of the property boundary defined by the centerline of the Cotley River or the westerly edge of Barstow's Pond has been approximated by line segments with bearings and distances).

Beginning on the southerly sideline of Middleboro Avenue at the northwesterly corner of land now or formerly of Tracey and Troy Hixon;

THENCE S 01°02′56″ W along land now or formerly of Hixon a distance of 166.30 feet to an angle point;

THENCE S 04°39′04″ E along land now or formerly of Hixon a distance of 98.65 feet to a point;

THENCE S 76°07′35″ E along land now or formerly of Hixon a distance of 106.06 feet to a point;

THENCE S 73°49′19″ E along land now or formerly of Ray A. Nacaula and Donnelly a distance of 241.70 feet to a point at land now or formerly of Waterman;

THENCE S 18°49′20″ W along land now or formerly of Waterman a distance of 151.72 feet to an iron pipe;

THENCE N 85°34′00″ E along land now or formerly of Waterman a distance of 74.85 feet to an iron pipe at land now or formerly of Mora and Bell;

THENCE S 09°35′20″ E along land now or formerly of Mora and Bell and land formerly of Oldfield but now of TDC a distance of 279.18 feet to a stone bound;

THENCE N 85°33′36″ E along land formerly of Oldfield but now of TDC a distance of 304.45 feet to a point on the westerly sideline of Stevens Street;

THENCE S 09°01′27″ E along the westerly sideline of Stevens Street a distance of 35.74 feet to a Massachusetts Highway bound;

THENCE S 59°54′40″ W along the land now or formerly of the Commonwealth of Massachusetts a distance of 16.08 feet to a Massachusetts Highway bound;

THENCE S 04°25′09″ E along the land now or formerly of the Commonwealth of Massachusetts a distance of 11.29 feet to a point along the northerly sideline of railroad right of way;

THENCE S 59°53′38″ W along the northerly sideline of the railroad right of way a distance of 884.09 feet to an angle point;

THENCE S 54°50′33″ W along the northerly sideline of the railroad right of way a distance of 187.40 feet to an angle point;

THENCE S 59°53′38″ W along the northerly sideline of the railroad right of way a distance of 1299.46 feet to a point also being the end point of a tie line;

THENCE continuing in the same direction S 59°53′38″ W along the northerly sideline of the railroad right of way a distance of 30.01 feet to the approximate centerline of the Cotley River channel;

THENCE N 03°10′26″ E along the approximate centerline of the Cotley River channel a distance of 47.17 feet;

THENCE N 33°36′32″ E along the approximate centerline of the Cotley River channel a distance of 113.25 feet;

THENCE N 52°39′30″ E along the approximate centerline of the Cotley River channel a distance of 66.39 feet;

THENCE N 09°47′41″ E along the approximate centerline of the Cotley River channel a distance of 173.55 feet;

THENCE N 18°32′41″ W along the approximate centerline of the Cotley River channel a distance of 70.11 feet;

THENCE N 25°28′18″ W along the approximate centerline of the Cotley River channel a distance of 105.43 feet;

THENCE N 07°01′49″ W along the approximate centerline of the Cotley River channel a distance of 127.91 feet;

THENCE N 33°55′21″ E along the approximate centerline of the Cotley River channel a distance of 103.89 feet;

THENCE N 07°23′01″ W along the approximate centerline of the Cotley River channel a distance of 199.55 feet;

THENCE N 13°51′57″ E along the approximate centerline of the Cotley River channel a distance of 64.35 feet;

THENCE N 31°51′07″ E along the approximate centerline of the Cotley River channel a distance of 175.31 feet;

THENCE N 21°19′23″ E along the approximate centerline of the Cotley River channel a distance of 142.74 feet;

THENCE N 38°11′09″ E along the approximate centerline of the Cotley River channel a distance of 173.51 feet;

THENCE N 63°56′17″ W a distance of 96.16 feet to the approximate westerly edge of Barstow's Pond;

THENCE N 51°45′07″ E by the approximate westerly edge of Barstow's Pond a distance of 156.13 feet;

THENCE N 65°12′52″ E by the approximate westerly edge of Barstow's Pond a distance of 162.77 feet;

THENCE N 82°19′48″ E by the approximate westerly edge of Barstow's Pond a distance of 106.19 feet;

THENCE N 35°36′23″ E by the approximate westerly edge of Barstow's Pond a distance of 22.65 feet;

THENCE N 08°39′34″ W by the approximate westerly edge of Barstow's Pond a distance of 44.34 feet;

THENCE N 17°22′26″ E by the approximate westerly edge of Barstow's Pond a distance of 48.53 feet;

THENCE N 17°23′37″ W by the approximate westerly edge of Barstow's Pond a distance of 75.14 feet;

THENCE N 03°05′14″ E by the approximate westerly edge of Barstow's Pond a distance of 41.87 feet;

THENCE N 76°36′55″ E by the approximate westerly edge of Barstow's Pond a distance of 45.99 feet;

THENCE S 37°12′19″ E by the approximate westerly edge of Barstow's Pond a distance of 46.41 feet;

THENCE S 10°11′37″ E by the approximate westerly edge of Barstow's Pond a distance of 55.96 feet;

THENCE S 15°09′39″ E by the approximate westerly edge of Barstow's Pond a distance of 35.95 feet;

THENCE S 05°46′00″ E by the approximate westerly edge of Barstow's Pond a distance of 44.65 feet;

THENCE S 81°38′17″ E by the approximate westerly edge of Barstow's Pond a distance of 27.39 feet;

THENCE N 54°43′56″ E by the approximate westerly edge of Barstow's Pond a distance of 128.51 feet;

THENCE N 01°46′23″ W by the approximate westerly edge of Barstow's Pond a distance of 113.99 feet;

THENCE N 25°38′16″ E by the approximate westerly edge of Barstow's Pond a distance of 151.73 feet;

THENCE N 74°41′23″ E by the approximate westerly edge of Barstow's Pond a distance of 106.65 feet;

THENCE N 27°43′59″ E by the approximate westerly edge of Barstow's Pond a distance of 20.70 feet to a point near the dam;

THENCE N 32°19′00″ E a distance of 110.00 feet to an iron pipe being the end point of a tie line and also being a point on a curve on the southerly sideline of Middleboro Avenue;

THENCE easterly along the southerly sideline of Middleboro Avenue on a curve to the right having a radius of 1975.00 feet, an arc distance of 131.00 feet, a chord bearing S 68°43′59″ E and a chord length of 130.98 feet to a Massachusetts Highway bound;

THENCE S 43°35′26″ E along the southerly sideline of Middleboro Avenue a distance of 17.94 feet to a Massachusetts Highway bound;

THENCE S 55°00′28″ E along the southerly sideline of Middleboro Avenue a distance of 93.78 feet to at Massachusetts Highway bound;

THENCE S 64°48′14″ E along the southerly sideline of Middleboro Avenue a distance of 35.92 feet to the Point of Beginning.

The above described lot contains 45.222 acres, more or less.

Tract 1—TDC—Stevens Street Single Lot, Oldfield

Description of land in the Commonwealth of Massachusetts, County of Bristol, City of Taunton, on the west side of Stevens Street owned by Taunton Development Corporation and shown as Assessor's Parcel 36 on Assessor's Map 95, bounded and described as follows:

Beginning at a stake on the westerly side of Stevens Street at the most north easterly corner of the lot to be described; and point being the south easterly corner of land now or formerly of Mora and Bell;

THENCE S 07°47′36″ E along the westerly sideline of Stevens Street a distance of 183.57 feet to a corner of land now or formerly of Taunton Development Corporation (TDC);

THENCE S 85°33′36″ W along land now or formerly of TDC (Assessor Map 94 Lot 156) a distance of 304.45 feet to a stone bound;

THENCE N 09°35′20″ W along land now or formerly of TDC (Assessor Map 94 Lot 156) a distance of 184.00 feet to a point at land now or formerly of Mora and Bell;

THENCE N 85°33′36″ E along land now or formerly of Mora and Bell a distance of 310.25 feet to the Point of Beginning.

The above described lot contains 1.293 acres, more or less.

The above described parcel has taken into consideration the roadway taking by the Commonwealth of Massachusetts, Department of Highways, for the relocation of Stevens Street, by taking dated September 8, 1993, recorded with Bristol County North District Registry of Deeds in Deed Book 5683, Page 12.

Tract 2—61R Stevens Street and O'Connell Way, Taunton, MA

Description of land in the Commonwealth of Massachusetts, County of Bristol, City of Taunton, on the west side of Stevens Street and the east side of O'Connell Way and more particularly shown as Lot 3A on a plan by Cullinan Engineering Co. Inc., entitled “Plan of Land Stevens Street, East Taunton, Massachusetts”, revised dated May 31, 2005 recorded in Plan Book 437, Page 30. Also a portion of said property is shown on a plan by Field Engineering Co. Inc., entitled “Definitive Subdivision Plan of Land, Liberty and Union Industrial Park—Phase II, Taunton Development Corporation”, revised dated March 8, 2006, recorded in Plan Book 446, Page 35 bounded and described as follows: Also see Tract 10 (Gap Parcel)

Beginning on the westerly sideline of Stevens Street at the most easterly corner of lot to be described; and point being the northeast corner of property now or formerly of Allen;

THENCE N 68°39′51″ W along land now or formerly of Allen and land now or formerly of 71 Stevens Street, LLC a distance of 313.86 feet to a point;

THENCE N 69°12′22″ W continuing along land now or formerly of 71 Stevens Street, LLC a distance of 225.17 feet to a point;

THENCE S 47°56′00″ W along land now or formerly of 71 Stevens Street, LLC a distance of 87.00 feet to a point;

THENCE S 44°58′21″ W continuing along land now or formerly of 71 Stevens Street, LLC a distance of 155.46 feet to a point;

THENCE N 13°10′38″ W a distance of 349.05 feet along land now or formerly of Taunton Development Corp. (Gap Parcel, see Tract 10) to a point;

THENCE N 42°19′18″ W a distance of 215.61 feet along land now or formerly of Taunton Development Corp. (Gap Parcel, see Tract 10) to a point at land now or formerly of Bellas, Trustee;

THENCE S 72°20′47″ E a distance of 491.45 feet along land now or formerly of Bellas, Trustee and land now or formerly of DeBrum to a point;

THENCE continuing S 72°20′47″ E along land now or formerly of DeBrum a distance of 20.32 feet to a point;

THENCE S 70°48′53″ E a distance of 141.08 feet along land now or formerly of DeBrum to an iron pipe;

THENCE S 63°11′08″ E along land now or formerly of DeBrum a distance of 211.40 feet to a point at the land now or formerly of Haskins;

THENCE S 26°48′58″ W along land now or formerly of Haskins a distance of 134.62 feet to a point;

THENCE S 69°41′20″ E along land now or formerly of Haskins a distance of 167.82 feet to a point at the westerly sideline of Stevens Street;

THENCE S 04°48′11″ W along the westerly sideline of Stevens Street a distance of 50.00 feet to the Point of Beginning.

The above described parcel contains 3.895 acres, more or less.

Tract 3—71 Stevens Street, Taunton, MA

Description of land in the Commonwealth of Massachusetts, County of Bristol, City of Taunton on the west side of Stevens Street more particularly shown as Lot 2 on a plan by Cullinan Engineering Co. Inc., entitled “Plan of Land Stevens Street, County Street and Rte. 24 East Taunton, Massachusetts Prepared for Robert DiCroce”, dated March 23, 2005, recorded in Plan Book 436, Page 22, bounded and described as follows:

Beginning on the westerly sideline of Stevens Street at the southeast corner of property now or formerly of Williams;

THENCE S 19°18′52″ W along the westerly sideline of Stevens Street a distance of 186.64 feet to a point of curvature at the beginning of the road layout for O'Connell Way;

THENCE southwesterly along the northerly sideline of O'Connell Way on a curve to the right having a radius of 75.00 feet, an arc distance of 130.78, feet a chord bearing S 69°16′13″ W and a chord length of 114.83 feet to a point of tangency;

THENCE N 60°46′27″ W along the northerly sideline of O'Connell Way a distance of 325.24 feet to a point of curvature;

THENCE northwesterly along the easterly sideline of O'Connell Way on a curve to the right having a radius of 250.00 feet, an arc distance of 207.68 feet, a chord bearing N 36°58′32″ W and a chord length of 201.76 feet to a point of tangency;

THENCE N 13°10′38″ W along the easterly sideline of O'Connell Way a distance of 283.78 feet to a point at land now or formerly Taunton Development Corporation (TDC) (Gap Parcel, Tract 10);

THENCE S 41°25′18″ E along land now or formerly of TDC (Gap Parcel, Tract 10) a distance of 28.35 feet to a point at land now or formerly DaRosa;

THENCE N 44°58′21″ E along land now or formerly of DaRosa a distance of 155.46 feet to a point;

THENCE N 47°56′00″ E along land now or formerly of DaRosa a distance of 87.00 feet to a point;

THENCE S 69°12′22″ E along land now or formerly of DaRosa a distance of 225.17 feet to a point;

THENCE S 68°39′51″ E along land now or formerly of DaRosa a distance of 192.94 feet to a point at land now or formerly of Allen;

THENCE S 14°26′52″ W along land now or formerly of Allen and land now or formerly of Williams a distance of 324.60 feet to a point;

THENCE S 65°33′57″ E along land now or formerly of Williams a distance of 150.00 feet to the Point of Beginning.

The above described parcel contains 6.875 acres, more or less.

Tract 4—73 Stevens Street, Taunton, MA

Description of land in the Commonwealth of Massachusetts, County of Bristol, City of Taunton on the west side of Stevens Street more particularly shown as Lot 2 on a plan by Cullinan Engineering Co. Inc., entitled “Plan of Land Stevens Street and O'Connell Way East Taunton, Massachusetts, prepared for One Stevens, LLC”, dated August 13, 2007, recorded in Plan Book 459, Page 72, bounded and described as follows:

Beginning at the intersection of the westerly sideline of Stevens Street and the southerly sideline of O'Connell Way and being the most northeasterly corner of the property herein described;

THENCE S 19°26′59″ W along the westerly sideline of Stevens Street a distance of 66.65 feet to a point;

THENCE S 29°25′10″ W along the westerly sideline of Stevens Street a distance of 134.03 feet to a point;

THENCE S 77°25′54″ W along Parcel E as shown on the above referenced plan a distance of 40.36 feet to a point;

THENCE S 46°27′27″ W along Parcel B-R as shown on the above referenced plan a distance of 53.00 feet to a point at the land now or formerly of One Stevens LLC;

THENCE N 73°40′17″ W along land now or formerly of One Stevens LLC a distance of 73.36 feet to a point;

THENCE N 04°17′52″ W along land now or formerly of One Stevens LLC a distance of 281.12 feet to a point of curvature;

THENCE northwesterly along a curve to the left having a radius of 110.00 feet, an arc distance of 108.43 feet, a chord bearing N 32°32′10″ W and a chord length of 104.09 feet to a point of tangency;

THENCE N 60°46′27″ W along land now or formerly of One Stevens LLC a distance of 50.91 feet to a point;

THENCE S 85°42′06″ W along land now or formerly of One Stevens LLC a distance of 60.47 feet to a point of curvature;

THENCE northerly along a curve to the right having a radius of 51.00 feet, an arc distance of 110.83 feet, a chord bearing N 32°02′26″ W and a chord length of 90.28 feet to a point of non-tangency;

THENCE S 60°46′27″ E along land now or formerly of One Stevens LLC a distance of 112.61 feet to a point on the southerly sideline of O'Connell Way;

THENCE S 60°46′27″ E along the southerly sideline of O'Connell Way a distance of 421.27 feet to the Point of Beginning.

The above described parcel contains 1.502 acres, more or less.

Tract 5—Lot 11 O'Connell Way Taunton, MA

Description of land in the Commonwealth of Massachusetts, County of Bristol, City of Taunton on the east side of O'Connell Way off Stevens Street, more particularly shown as Lot 11 on a plan by Cullinan Engineering Co. Inc., entitled “Definitive Subdivision Modification Plan of Land Liberty and Union Industrial Park—Phase II Taunton Development Corporation”, dated March 23, 2007, recorded in Plan Book 458, Page 21, bounded and described as follows:

Beginning at a point along a curve on the easterly sideline of O'Connell Way and said point being the northwesterly corner of land now or formerly of Taunton Development Corporation (Gap Parcel, Tract 10);

THENCE northwesterly along the easterly sideline of O'Connell Way on a curve to the right having a radius of 170.00 feet, an arc distance of 94.29 feet, a chord bearing N 16°24′14″ W and a chord length of 93.09 feet to a point of tangency;

THENCE N 00°30′50″ W along the easterly sideline of O'Connell Way a distance of 118.63 feet to a point of curvature;

THENCE northwesterly along the easterly sideline of O'Connell Way on a curve to the left having a radius of 330.00 feet, an arc distance of 225.84 feet, a chord bearing N 20°07′12″ W and a chord length of 221.46 feet to a point of tangency;

THENCE N 39°43′33″ W along the easterly sideline of O'Connell Way a distance of 100.06 feet to a point of curvature;

THENCE northwesterly along the easterly sideline of O'Connell Way on a curve to the right having a radius of 270.00 feet, an arc distance of 119.96 feet, a chord bearing N 26°59′51″ W and a chord length of 118.98 feet to a point of tangency;

THENCE N 14°16′09″ W along the easterly sideline of O'Connell Way and land now or formerly PR-Crossroads Commerce Center LLC a distance of 153.52 feet to a point;

THENCE N 28°14′17″ E along land now or formerly PR-Crossroads Commerce Center LLC a distance of 220.00 feet to a point;

THENCE N 68°59′27″ E along land now or formerly PR-Crossroads Commerce Center LLC a distance of 100.00 feet to a point;

THENCE N 89°40′32″ E along land now or formerly PR-Crossroads Commerce Center LLC a distance of 602.55 feet to a point at the land now or formerly of Christ Community Church, Inc.;

THENCE S 13°44′43″ E along land now or formerly of Christ Community Church, Inc. a distance of 223.37 feet to a point;

THENCE S 08°06′20″ W along land now or formerly of Christ Community Church, Inc. a distance of 70.79 feet to a point;

THENCE S 01°38′59″ E along land now or formerly of Christ Community Church, Inc. and land now or formerly of Bellas, Trustee a distance of 214.50 feet to a point;

THENCE S 23°51′01″ W along land now or formerly of Bellas, Trustee a distance of 311.52 feet to a point;

THENCE S 67°36′01″ W along land now or formerly of Bellas, Trustee a distance of 486.60 feet to a point at land now or formerly of DaRosa and land now or formerly of Taunton Development Corporation (Gap Parcel, Tract 10);

THENCE S 57°42′31″ W along land now or formerly of Taunton Development Corporation (Gap Parcel, Tract 10) a distance of 16.65 feet to the Point of Beginning.

The above described parcel contains 14.021 acres, more or less.

Tract 6—50 O'Connell Way

Description of land in the Commonwealth of Massachusetts, County of Bristol, City of Taunton on the west side of Stevens Street and the west side on O'Connell Way more particularly shown as Lot 1A-R on a plan by Cullinan Engineering Co. Inc., entitled “Plan of Land Stevens Street and O'Connell Way East Taunton, Massachusetts prepared for One Stevens LLC”, dated August 13, 2007, recorded in Plan Book 459, Page 72, bounded and described as follows:

Beginning on the southerly sideline of O'Connell Way at the land now or formerly of Jamins LLC;

THENCE N 60°46′27″ W along land now or formerly of Jamins LLC a distance of 112.61 feet to a point at the beginning of a non-tangent curve;

THENCE southeasterly along land now or formerly Jamins LLC on a curve to the left having a radius of 51.00 feet, an arc distance of 110.83 feet, a chord bearing S 32°02′26″ E and a chord length of 90.28 feet to a point of tangency;

THENCE N 85°42′06″ E along land now or formerly of Jamins LLC a distance of 60.47 feet to a point;

THENCE S 60°46′27″ E along land now or formerly of Jamins LLC a distance of 50.91 feet to a point of curvature;

THENCE southerly along land now or formerly of Jamins LLC on a curve to the right having a radius of 110.00 feet, an arc distance of 108.43 feet, a chord bearing S 32°32′10″ E and a chord length of 104.09 feet to a point of tangency;

THENCE S 04°17′52″ E along land now or formerly of Jamins LLC a distance of 281.12 feet to a point;

THENCE S 73°40′17″ E along land now or formerly of Jamins LLC a distance of 73.36 feet to a point at the land now or formerly of Porter, Trustee;

THENCE S 46°27′27″ W along land now or formerly of Porter, Trustee a distance of 235.54 feet to a point;

THENCE N 88°13′45″ W along land now or formerly of Porter, Trustee a distance of 139.98 feet to a point;

THENCE N 70°55′10″ W along land now or formerly of Porter, Trustee a distance of 530.08 feet to a point;

THENCE N 30°37′46″ W along land now or formerly of Porter, Trustee a distance of 236.68 feet to a point at the land now or formerly of Two Stevens, LLC;

THENCE N 15°19′02″ E along land now or formerly of Two Stevens, LLC a distance of 146.85 feet to a point;

THENCE N 85°42′06″ E along land now or formerly of Two Stevens, LLC a distance of 414.39 feet to a point of curvature;

THENCE northeasterly along land now or formerly of Two Stevens, LLC on a curve to the left having a radius of 100.00 feet, an arc distance of 94.52 feet, a chord bearing N 58°37′25″ E and a chord length of 91.04 feet to a point of tangency;

THENCE N 31°32′45″ E along land now or formerly of Two Stevens, LLC a distance of 59.36 feet to a point;

THENCE N 03°58′05″ W along land now or formerly of Two Stevens, LLC a distance of 73.82 feet to a point;

THENCE N 54°21′17″ E along land now or formerly of Two Stevens, LLC a distance of 45.25 feet to a point on the curve of the westerly sideline of O'Connell Way;

THENCE southeasterly along the westerly sideline of O'Connell Way on a curve to the left having a radius of 310.00 feet, an arc distance of 214.85 feet, a chord bearing S 40°55′09″ E and a chord length of 210.58 feet to a point of tangency and at the Point of Beginning.

The above described parcel contains 9.146 acres, more or less.

Tract 7—60 O'Connell Way, Taunton, MA

Description of land in the Commonwealth of Massachusetts, County of Bristol, City of Taunton on the west side of O'Connell Way off Stevens Street, more particularly shown as Lot 1B on plan by Cullinan Engineering Co. Inc., entitled “Plan of Land Stevens Street, County Street and Route 24 East Taunton, Massachusetts Prepared for the Maggiore Companies”, dated May 29, 2007, rev. June 13, 2007, recorded in Plan Book 458, Page 22, bounded and described as follows: (For the purposes of these drawings, the portion of the property boundary defined by the centerline of the Cotley River has been approximated by line segments with defined bearings and distances).

Beginning on the westerly sideline of O'Connell Way at the most easterly corner of land now or formerly of Taunton Development Corporation (TDC) (Lot 9);

THENCE S 13°10′38″ E along the westerly sideline of O'Connell Way a distance of 321.23 feet to a point of curvature;

THENCE southeasterly along the westerly sideline of O'Connell Way on a curve to the left having a radius of 310.00 feet, an arc distance of 42.67 feet, a chord bearing S 17°07′14″ E and a chord length of 42.64 feet to a point at the land now or formerly of One Stevens LLC;

THENCE S 54°21′17″ W along land now or formerly of One Stevens LLC a distance of 45.25 feet to a point;

THENCE S 03°58′05″ E along land now or formerly of One Stevens LLC a distance of 73.82 feet to a point;

THENCE S 31°32′45″ W along land now or formerly of One Stevens LLC a distance of 59.36 feet to a point of curvature;

THENCE southwesterly along land now or formerly of One Stevens LLC on a curve to the right having a radius of 100.00 feet, an arc distance of 94.52 feet, a chord bearing S 58°37′25″ W and a chord length of 91.04 feet to a point of tangency;

THENCE S 85°42′06″ W along land now or formerly of One Stevens LLC a distance of 414.39 feet to a point;

THENCE S 15°19′02″ W along land now or formerly of One Stevens LLC a distance of 146.85 feet to a point at the land now or formerly of Porter, Trustee;

THENCE N 30°37′46″ W along land now or formerly of Porter, Trustee a distance of 72.02 feet to a point;

THENCE N 60°57′07″ W along land now or formerly of Porter, Trustee a distance of 554.83 feet to a point;

THENCE N 05°23′38″ W along land now or formerly of Porter, Trustee a distance of 141.69 feet to a point;

THENCE N 75°19′32″ W along land now or formerly of Porter, Trustee a distance of 66.89 feet to a point;

THENCE N 10°07′19″ W along land now or formerly of Porter, Trustee a distance of 365.13 feet to a point;

THENCE S 79°40′32″ W along land now or formerly of Porter, Trustee a distance of 37.82 feet to the approximate centerline of the Cotley River and at land now or formerly of TDC (Lot 13);

THENCE N 10°19′41″ W along the approximate centerline of Cotley River a distance of 132.84 feet;

THENCE N 00°51′38″ W along the approximate centerline of Cotley River a distance of 102.63 feet;

THENCE N 22°05′23″ E along the approximate centerline of Cotley River a distance of 37.53 feet;

THENCE N 36°31′36″ E along the approximate centerline of Cotley River a distance of 36.78 feet;

THENCE N 07°35′17″ E along the approximate centerline of Cotley River a distance of 30.90 feet;

THENCE N 15°02′05″ W along the approximate centerline of Cotley River a distance of 115.27 feet;

THENCE N 22°35′20″ W along the approximate centerline of Cotley River a distance of 27.33 feet;

THENCE N 58°48′35″ W along the approximate centerline of Cotley River a distance of 35.99 feet;

THENCE N 54°00′16″ W along the approximate centerline of Cotley River a distance of 31.07 feet;

THENCE N 05°31′51″ W along the approximate centerline of Cotley River a distance of 43.77 feet;

THENCE N 10°39′46″ E along the approximate centerline of Cotley River a distance of 110.86 feet to a point;

THENCE S 69°49′06″ E along land now or formerly of TDC (Lot 13) a distance of 30.00 feet to a point also being the end point of a tie line;

THENCE continuing S 69°49′06″ E along land now or formerly of TDC (Lot 13 & Lot 14) a distance of 246.89 feet to a point;

THENCE S 70°07′42″ E along land now or formerly of TDC (Lot 14) a distance of 636.23 feet to a point at the land of TDC (Lot 9);

THENCE S 20°56′02″ E along land now or formerly of TDC (Lot 9) a distance of 547.76 feet to a point;

THENCE N 76°49′22″ E along land now or formerly of TDC (Lot 9) a distance of 225.11 feet to the Point of Beginning.

The above described parcel contains 26.249 acres, more or less.

Tract 8—Stevens Street and O'Connell Way

Description of land in the Commonwealth of Massachusetts, County of Bristol, City of Taunton on Stevens Street and Route 140, more particularly shown as Parcels A and B on a plan by Cullinan Engineering Co. Inc., entitled “Plan of Land Stevens Street, County Street and Rte. 24 East Taunton, Massachusetts, prepared for the Maggiore Companies”, dated May 29, 2007, recorded in Plan Book 458, Page 22 and as Parcel E on a plan by Cullinan Engineering Co. Inc., entitled “Plan of Land Stevens Street and O'Connell Way East Taunton, Massachusetts, Prepared for One Stevens LLC”, dated August 13, 2007, recorded in Plan Book 459, Page 72, bounded and described as follows:

Beginning at a point on the westerly sideline of Stevens Street at the land now or formerly of 73 Stevens Street Jamins LLC;

THENCE S 29°25′10″ W along the westerly sideline of Stevens Street a distance of 67.00 feet to a point.

THENCE N 56°43′22″ W along the sideline of Stevens Street a distance of 8.25 feet to a Massachusetts Highway bound;

THENCE continuing S 36°03′59″ W along the westerly sideline of Stevens Street a distance of 45.36 feet to a concrete bound;

THENCE S 36°03′59″ W along the westerly sideline of Stevens Street a distance of 69.00 feet to a point;

THENCE S 51°31′40″ W along the westerly sideline of Stevens Street a distance of 178.97 feet to a point at land now or formerly of Silver City Galleria LLC;

THENCE N 88°13′45″ W along land now or formerly of Silver City Galleria LLC a distance of 142.82 feet to a point;

THENCE N 72°05′20″ W along land now or formerly of Silver City Galleria LLC a distance of 331.46 feet to a point;

THENCE N 70°46′43″ W along land now or formerly of Silver City Galleria LLC a distance of 246.11 feet to a Massachusetts Highway bound;

THENCE S 41°20′14″ W along land now or formerly of Silver City Galleria LLC a distance of 70.00 feet to a Massachusetts Highway bound and at the northerly sideline of County Street, State Highway Route 140, Layout #4865;

THENCE N 52°11′42″ W along the northerly sideline of County Street, State Highway Route 140, Layout #4865 a distance of 200.37 feet to a Massachusetts Highway bound;

THENCE N 48°39′46″ W along the northerly sideline of County Street, State Highway Route 140, Layout #4865 a distance of 1040.93 feet to a Massachusetts Highway bound and at the easterly sideline of State Highway Route 24, Layout #3719;

THENCE N 01°00′57″ E along the easterly sideline of State Highway Route 24, Layout #3719 a distance of 290.43 feet to a point and at land now or formerly of the Taunton Development Corporation;

THENCE N 79°40′32″ E along land now or formerly of Taunton Development Corporation a distance of 190.04 feet to a point also being the end point of a tie line;

THENCE continuing N 79°40′32″ E along land now or formerly of Taunton Development Corporation a distance of 21.00 feet to the approximate centerline of the Cotley River and at land now or formerly of Two Stevens LLC;

THENCE N 79°40′32″ E along land now or formerly of Two Stevens LLC a distance of 37.82 feet to a point;

THENCE S 10°07′19″ E along land now or formerly of Two Stevens LLC a distance of 365.13 feet to a point;

THENCE S 75°19′32″ E along land now or formerly of Two Stevens LLC a distance of 66.89 feet to a point;

THENCE S 05°23′38″ E along land now or formerly of Two Stevens LLC a distance of 141.69 feet to a point;

THENCE S 60°57′07″ E along land now or formerly of Two Stevens LLC a distance of 554.83 feet to a point;

THENCE S 30°37′46″ E along land now or formerly of Two Stevens LLC a distance of 72.02 feet to a point and at land now or formerly of One Stevens LLC;

THENCE S 30°37′46″ E along land now or formerly of One Stevens LLC a distance of 236.68 feet to a point;

THENCE S 70°55′10″ E along land now or formerly of One Stevens LLC a distance of 530.08 feet to a point;

THENCE S 88°13′45″ E along land now or formerly of One Stevens LLC a distance of 139.98 feet to a point;

THENCE N 46°27′27″ E along land now or formerly of One Stevens LLC a distance of 235.54 feet to a point and at land now or formerly of Jamins LLC;

THENCE continuing N 46°27′27″ E along land now or formerly of Jamins LLC a distance of 53.00 feet to a point;

THENCE N 77°25′54″ E along land now or formerly of Jamins LLC a distance of 40.36 feet to a point on the westerly sideline of Stevens Street and the Point of Beginning; The above described parcel contains 7.966 acres, more or less.

Tract 9—O'Connell Way Layout

Description of land in the Commonwealth of Massachusetts, County of Bristol, City of Taunton on the west side of Stevens Street owned by the Taunton Development Corporation and shown as a proposed roadway layout on a plan by Field Engineering Co., Inc., entitled “Definitive Subdivision Plan of Land, Liberty and Union Industrial Park—Phase II” and revised dated 3/08/2006, recorded in Plan Book 446, Page 35, and a plan entitled, “Definitive Subdivision Modification Plan of Land, Liberty and Union Industrial Park—Phase II” and dated 3/23/2007, recorded in Plan Book 458, Page 21, bounded and described as follows:

Beginning on the westerly sideline of Stevens Street at the southeasterly corner of the parcel to be described;

THENCE S 19°18′52″ W along the westerly sideline of Stevens Street a distance of 155.23 feet to a point at land now or formerly Jamins LLC;

THENCE N 60°46′27″ W along the westerly sideline of O'Connell Way a distance of 421.27 feet to a point of curvature;

THENCE northwesterly along the westerly sideline of O'Connell Way on a curve to the right having a radius of 310.00 feet, an arc distance of 257.52 feet, a chord bearing N 36°58′32″ W and a chord length of 250.18 feet to a point of tangency;

THENCE N 13°10′38″ W along the westerly sideline of O'Connell Way a distance of 539.91 feet to a point of curvature;

THENCE northwesterly along the westerly sideline of O'Connell Way on a curve to the left having a radius of 170.00 feet, an arc distance of 86.47 feet, a chord bearing N 27°44′58″ W and a chord length of 85.54 feet to a point of tangency;

THENCE N 42°19′18″ W along the westerly sideline of O'Connell Way a distance of 135.62 feet to a point of curvature;

THENCE northwesterly along the westerly sideline of O'Connell Way on a curve to the right having a radius of 230.00 feet, an arc distance of 167.83 feet, a chord bearing N 21°25′04″ W and a chord length of 164.13 feet to a point of tangency;

THENCE N 00°30′50″ W along the westerly sideline of O'Connell Way a distance of 118.63 feet to a point of curvature;

THENCE northerly along the westerly sideline of O'Connell Way on a curve to the left having a radius of 270.00 feet, an arc distance of 184.78 feet, a chord bearing N 20°07′11″ W and a chord length of 181.20 feet to a point of tangency;

THENCE N 39°43′33″ W along the westerly sideline of O'Connell Way a distance of 100.06 feet to a point of curvature;

THENCE northwesterly along the westerly sideline of O'Connell Way on a curve to the right having a radius of 330.00 feet, an arc distance of 93.55 feet, a chord bearing N 31°36′18″ W and a chord length of 93.23 feet to a point of reverse curvature;

THENCE northwesterly along the westerly sideline of O'Connell Way on a curve to the left having a radius of 40.00 feet, an arc distance of 49.33 feet, a chord bearing N 58°48′43″ W and a chord length of 46.26 feet to a point of reverse curvature;

THENCE northerly along the sideline of O'Connell Way on a curve to the right having a radius of 75.00 feet, an arc distance of 340.17 feet, a chord bearing N 35°47′44″ E and a chord length of 115.02 feet to a point of tangency;

THENCE S 14°16′09″ E along the easterly sideline of O'Connell Way a distance of 53.96 feet to a point of curvature;

THENCE southerly along the easterly sideline of O'Connell Way on a curve to the left having a radius of 270.00 feet, an arc distance of 119.96 feet, a chord bearing S 26°59′51″ E and a chord length of 118.98 feet to a point of tangency;

THENCE S 39°43′33″ E along the easterly sideline of O'Connell Way a distance of 100.06 feet to a point of curvature;

THENCE southeastly along the easterly sideline of O'Connell Way on a curve to the right having a radius of 330.00 feet, an arc distance of 225.84 feet, a chord bearing S 20°07′12″ E and a chord length of 221.46 feet to a point of tangency;

THENCE S 00°30′50″ E along the easterly sideline of O'Connell Way a distance of 118.63 feet to a point of curvature;

THENCE southeasterly along the easterly sideline of O'Connell Way on a curve to the left having a radius of 170.00 feet, an arc distance of 124.05 feet, a chord bearing S 21°25′04″ E and a chord length of 121.31 feet to a point of tangency;

THENCE S 42°19′18″ E along the easterly sideline of O'Connell Way a distance of 135.62 feet to a point of curvature;

THENCE southeasterly along the easterly sideline of O'Connell Way on a curve to the right having a radius of 230.00 feet, an arc distance of 116.99 feet, a chord bearing S 27°44′58″ E and a chord length of 115.74 feet to a point of tangency;

THENCE S 13°10′38″ E along the easterly sideline of O'Connell Way a distance of 533.14 feet to a point of curvature;

THENCE southeasterly along the easterly sideline of O'Connell Way on a curve to the left having a radius of 250.00 feet, an arc distance of 207.68 feet, a chord bearing S 36°58′32″ E and a chord length of 201.76 feet to a point of tangency;

THENCE S 60°46′27″ E along the easterly sideline of O'Connell Way a distance of 325.24 feet to a point of curvature;

THENCE northeasterly along the easterly sideline of O'Connell Way on a curve to the left having a radius of 75.00 feet, an arc distance of 130.78 feet, a chord bearing N 69°16′13″ E and a chord length of 114.83 feet to the Point of Beginning.

The above described roadway parcel contains 3.442 +/− acres which, together with a 512 square foot easement on land now or formerly of Jamins LLC, constitute the O'Connell Way layout.

The 512 square foot easement description begins at a point on the northerly sideline of Stevens Street being S 19°18′52″ W and 155.23 feet distant from the beginning point of O'Connell Way described above;

THENCE N 60°46′27″ W along the westerly sideline of O'Connell Way a distance of 50.55 feet to a point of curvature;

THENCE southerly on a curve to the right having a radius of 60.00 feet, an arc distance of 84.01 feet, a chord bearing S 20°39′44″ E and a chord length of 77.31 feet to a point on the northerly sideline of Stevens Street;

THENCE N 19°26′59″ E along the northerly sideline of Stevens Street a distance of 50.55 feet to the Point of Beginning.

Said 512 square foot easement is on land now or formerly of Jamins LLC and is intended to be included with and for the use of O'Connell Way.

Tract 10—Gap of Land between land of DaRosa and O'Connell Way

Description of land in the Commonwealth of Massachusetts, County of Bristol, City of Taunton, on the east side of O'Connell Way off Stevens Street being a land gap between the layout of O'Connell Way and Lot 10 in Plan Book 446, Page 35 and Parcel 2 described in a the deed from Taunton Development Corporation to Daniel G. DaRosa and Laurie B. DaRosa, dated July 18, 2005, recorded in Deed Book 15013, Page 42, bounded and described as follows:

Beginning on the easterly sideline of O'Connell Way at the most southwesterly corner of the parcel to be described;

THENCE N 13°10′38″ W along the easterly sideline of O'Connell Way a distance of 249.36 feet to a point of curvature;

THENCE northwesterly along the easterly sideline of O'Connell Way on a curve to the left having a radius of 230.00 feet, an arc distance of 116.99 feet, a chord bearing N 27°44' 58″ W and a chord length of 115.74 feet to a point of tangency;

THENCE N 42°19′18″ W along the easterly sideline of O'Connell Way a distance of 135.62 feet to a point of curvature;

THENCE northwesterly along the easterly sideline of O'Connell Way on a curve to the right having a radius of 170.00 feet an arc distance of 29.76 feet, a chord bearing N 37°18′28″ W and a chord length of 29.72 feet to a point at land now or formerly L & U LLC;

THENCE N 57°42′31″ E along land now or formerly L & U LLC distance of 16.65 feet to a point at land now or formerly of Darosa (Tract 2);

THENCE S 42°19′18″ E along land now or formerly of DaRosa (Tract 2) a distance of 215.61 feet to a point;

THENCE S 13°10′38″ E along land now or formerly of DaRosa (Tract 2) a distance of 349.05 feet to a point at land now or formerly of 71 Stevens Street LLC;

THENCE N 41°25′18″ W along land now or formerly of 71 Stevens Street LLC a distance of 28.35 feet to the Point of Beginning.

The above described parcel contains 0.203 acres, more or less.

Tract 11—67 Stevens Street

Description of parcel of land in Taunton, Massachusetts shown as Tax Parcel 119-2-0 on the City of Taunton Assessor's plans, bounded and described as follows:

Beginning on the westerly sideline of Stevens Street, at the most northeasterly corner of the lot to be herein described and at the southeasterly corner of land now or formerly John & Betty Jean Allen;

THENCE S 07°26′15″ W along the westerly sideline of Stevens Street, a distance of 50.49 feet to an angle point in the westerly sideline of Stevens Street;

THENCE S 13°24′15″ W along the westerly sideline of Stevens Street, a distance of 46.49 feet to an angle point in the westerly sideline of Stevens Street;

THENCE S 18°41′39″ W along the westerly sideline of Stevens Street, a distance of 103.43 feet to land now or formerly of 71 Stevens Street LLC;

THENCE N 65°33′57″ W along land now or formerly of 71 Stevens Street LLC, a distance of 150.00 feet to corner of land now or formerly of 71 Stevens Street LLC;

THENCE N 14°26′52″ E along land now or formerly of 71 Stevens Street LLC, a distance of 200.00 feet to a concrete bound at the land of John & Betty Jean Allen;

THENCE S 65°30′42″ E along land now or formerly of John & Betty Jean Allen, a distance of 150.68 feet to the Point of Beginning.

The above described lot contains 0.699 acres, more or less.

Being the same premises conveyed to Kathleen Williams and Kenneth Williams by deed of Ernestina R. Torres and Nelson Henriquez, dated July 28, 2005 and recorded in Deed Book 15029, Page 189.

Tract 12—65 Stevens Street

Description of parcel of land in Taunton, Massachusetts shown as tax parcel 119-3-0 on the City of Taunton Assessor's plans, bounded and described as follows:

The land in Taunton, on the northwesterly side of Stevens Street, being shown as Lot #9A on a plan entitled “Property of Richard C. Tilton et ux Taunton, Mass. Scale 1″ = 20′ July 8, 1964 John P. Gonzals, Surveyor”, which plan is recorded with Bristol County Northern District Registry of Deeds, Plan Book 94, Page 9 and being more particularly described as follows:

Beginning on the westerly sideline of Stevens Street, at the most northeasterly corner of the lot to be herein described and at the southeasterly corner of land now or formerly Daniel & Laurie DaRosa;

THENCE S 02°11′22″ W along the westerly sideline of Stevens Street, a distance of 116.64 feet to an angle point in the westerly sideline of Stevens Street;

THENCE S 05°24′21″ W along the westerly sideline of Stevens Street, a distance of 22.67 feet to a point at the land now or formerly of Kathleen & Kenneth Williams;

THENCE N 65°30′42″ W along land now or formerly of Kathleen & Kenneth Williams, a distance of 150.68 feet to a concrete bound at the land now or formerly of 71 Stevens Street LLC;

THENCE N 14°26′52″ E along land now or formerly of 71 Stevens Street LLC, a distance of 124.60 feet to a concrete bound at the land of Daniel & Laurie DaRosa;

THENCE S 68°39′51″ E along stonewall remains and land now or formerly of Daniel & Laurie DaRosa, a distance of 120.92 feet to the Point of Beginning.

The above described lot contains 0.396 acres, more or less.

Being the same premises conveyed to John M. Allen by deed of John M. Allen and Betty Jean Allen dated June 4, 2011 and recorded in Deed Book 20376, page 275.

Tract 13—61F Stevens Street

Description of parcel of land in Taunton, Massachusetts shown as Tax Parcel 109-17-0 on the City of Taunton Assessors' Plans and being more particularly described as follows:

The land located on the westerly side of Stevens Street, East Taunton, Bristol County, Massachusetts shown as Lot 3B on a plan entitled, “Plan of Land Stevens Street, East Taunton, Massachusetts, prepared for Taunton Development Corporation”, prepared by Cullinan Engineering, Scale 1″ = 30′ revised dated May 31, 2005 which plan is recorded with the Bristol County Northern District Registry of Deeds in Plan Book 437, Page 30, containing approximately 0.42 acres and known as and numbered 61F Stevens Street, bounded and described as follows:

Beginning on the westerly sideline of Stevens Street, at the most northeasterly corner of the lot to be herein described and at the southeasterly corner of land now or formerly Edwin DeBrum;

THENCE S 04°48′11″ W along the westerly sideline of Stevens Street, a distance of 124.70 feet to a point at the land now or formerly of Daniel & Laurie DaRosa;

THENCE N 69°41′20″ W along land now or formerly of Daniel & Laurie DaRosa, a distance of 167.82 feet to a point at the corner of land now or formerly of Daniel & Laurie DaRosa;

THENCE N 26°48′58″ E along land now or formerly of Daniel & Laurie DaRosa, a distance of 134.62 feet to a point at the land of Edwin DeBrum;

THENCE S 63°11′08″ E along land now or formerly of Edwin DeBrum, a distance of 120.00 feet to the Point of Beginning.

The above described lot contains 0.416 acres more or less.

Being the same premises conveyed to Edward A. Haskins, Jr. and Sheri L. Haskins by deed of Jeffrey D. Smith dated December 30, 2005, recorded in Deed Book 15519, page 221.

Dated: September 18, 2015.
Kevin K. Washburn,
Assistant Secretary—Indian Affairs.

[FR Doc. 2015-24360 Filed 9-24-15; 8:45 am]

BILLING CODE 4337-15-P